DEPARTMENT OF LABOR

Employment and Training Administration

[TA-W-80,304B]

Continuous Computing, Inc. (CCPU), A Subsidiary of RadiSys Corporation, Including On-Site Leased Workers From Qualstaff Resources, Including Teleworkers Located in Florida, Pennsylvania, Georgia, and Texas, Reporting to This Location, San Diego, CA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 2, 2011, applicable to workers of Continuous Computing, Inc. (CCPU), a subsidiary of RadiSys Corporation, including on-site leased workers from Qualstaff Resources, San Diego, California. The workers are engaged in activities related to the production of PCP boards, telecommunication systems, and medical systems. The notice was published in the Federal Register on September 19, 2011 (76 FR 58046).

At the request of the State agency, the Department reviewed the certification for workers of the subject firm. New information shows that worker separations have occurred involving employees of the subject firm who telework from off-site locations in Florida, Pennsylvania, Georgia, and Texas. These employees provided various activities supporting production of PCP boards, telecommunication systems, and medical systems.

Based on these findings, the Department is amending this certification to include employees of the firm who telework and report to the San Diego, California facility of Continuous Computing, Inc. (CCPU), a subsidiary of RadiSys Corporation.

The intent of the Department's certification is to include all workers of the subject firm adversely affected by actual/likely increase in imports following a shift abroad.

The amended notice applicable to TA-W-80,304, TA-W-80,304A, and TA-W-80,304B are hereby issued as follows:

All workers of RadiSys Corporation, including on-site leased workers from Employment Trends, Hillsboro, Oregon (TA-W-80,304) who became totally or partially separated from employment on or after August 15, 2011, through two years from the date of certification, are eligible to apply for adjustment assistance under Chapter 2 of Title II of the Trade Act of 1974, as amended, and are also eligible to apply for alternative trade adjustment assistance under Section 246 of the Trade Act of 1974, as amended,

And

All workers from Northwest Software, Inc., Oxford Global Resources and Resources Global Professionals, working on-site at RadiSys Corporation, Hillsboro, Oregon (TA-W-80,304A) who became totally or partially separated from employment on or after July 20, 2010, through two years from the date of certification, are eligible to apply for adjustment assistance under Chapter 2 of Title II of the Trade Act of 1974, as amended, and are also eligible to apply for alternative trade adjustment assistance under Section 246 of the Trade Act of 1974, as amended,

And

All workers of Continuous Computing, Inc. (CCPU), a subsidiary of RadiSys Corporation, including on-site workers from QualStaff Resources, including teleworkers located in Florida, Pennsylvania, Georgia, and Texas reporting to San Diego, California (TA-W-80,304B), who became totally or partially separated from employment on or after July 20, 2010, through September 2, 2013, are eligible to apply for adjustment assistance under Section 223 of the Trade Act of 1974, and are also eligible to apply for alternative trade adjustment assistance under Section 246 of the Trade Act of 1974, as amended.

Signed at Washington, DC, this 19th day of December 2011.
Michael W. Jaffe,
Certifying Officer, Office of Trade Adjustment Assistance.

[FR Doc. 2011-33326 Filed 12-28-11; 8:45 am]

BILLING CODE 4510-FN-P